DEPARTMENT OF ENERGY

Federal Energy Regulatory Commission

[Project No. 2543-000]

Clark Fork and Blackfoot, LLC; Notice of Scoping Meetings and Soliciting Scoping Comments

May 20, 2004.

Take notice that the following scoping meetings will be held by staff of the Federal Energy Regulatory Commission (Commission), where the Commission will solicit comments in anticipation of an application to surrender the license for the Milltown Dam Project:

a. Type of Application: It is anticipated that after the Environmental Protection Agency has completed its Record of Decision on its proposed cleanup plan for the Milltown Reservoir, Clark Fork and Blackfoot, LLC (licensee for the Milltown Dam Project) would file an application for surrender of the project license, pursuant to Commission rules and regulations.

b. Project No.: 2543.

c. Licensee: Clark Fork and Blackfoot, LLC.

d. Name of Project: Milltown Dam Project.

e. Location: Confluence of the Clark Fork River and the Blackfoot River in Missoula County, Montana.

f. To Be Filed Pursuant to: Federal Power Act, 16 U.S.C. 791(a)-825(r).

g. Applicant Contact: William W. Thompson, PE, Senior Engineer, NorthWestern Energy, 40 East Broadway, Butte, MT 59701.

h. FERC Contact: Robert Grieve at (202) 502-8752, or robert.grieve@ferc.gov.

i. Deadline for Filing Scoping Comments: June 21, 2004.

All documents (original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's Web site (http://www.ferc.gov) under the “e-Filing” link. For assistance, contact FERC Online Support at FERCOnlineSupport@ferc.gov. or toll-free at 1-866-208-3676, or for TTY, (202) 502-8659.

i. On May 17, 2004, the U.S. Environmental Protection Agency (EPA) and the Montana Department of Environmental Quality (DEQ) released a Revised Proposed Plan for the Milltown Reservoir Sediments Operable Unit of the Milltown Reservoir Superfund Site. The EPA has scheduled meetings for June 9 and 10, 2004, to accept comments on the plan. Those comments will play a role in the EPA's Record of Decision (ROD) for the Milltown Reservoir, expected this fall. Subsequent to EPA's ROD, the Commission anticipates Clark Fork and Blackfoot, LLC will file an application for surrender of its license for the Milltown Dam Project, pursuant to 18 CFR 6.1. To expedite the process, Commission staff will be present at EPA's scheduled public meetings to solicit comments from the public on the anticipated surrender application.

j. Scoping Process: The Commission intends to prepare either an Environmental Assessment (EA) or an Environmental Impact Statement (EIS) on the anticipated surrender application in accordance with the National Environmental Policy Act. The EA or EIS will consider both site-specific and cumulative environmental impacts and reasonable alternatives to the proposed action.

Scoping Meetings

The EPA noticed its meetings on May 17, 2004. We invite all interested agencies, non-governmental organizations, Native American tribes, and individuals to attend one or more of the meetings and to assist the Commission staff in identifying the scope of environmental issues to be analyzed in the EA or EIS. The times and locations of these meetings are as follows:

Wednesday, June 9, 2004, Bonner School Gym, 9045 Highway 200, Bonner, Montana. Open house: 6-7 p.m. Public meeting: 7-10 p.m.

Thursday June 10, 2004, Opportunity Community Center, Hauser and Stewart (kitty-corner from Solan's grocery), Opportunity, Montana. Open house: 6-7 p.m. Public meeting: 7-10 p.m.

At the scoping meetings, the Commission staff will: (1) Summarize the procedures by which the Commission will process the anticipated surrender application; (2) solicit from the meeting participants all available information, especially quantifiable data, on the resources at issue; (3) encourage statements from experts and the public on issues that should be analyzed in the EA or EIS, including viewpoints in opposition to, or in support of; (4) determine the resource issues to be addressed in the EIS; and (5) identify those issues that require a detailed analysis, as well as those issues that do not require a detailed analysis.

Procedures

Individuals, organizations, and agencies with environmental expertise and concerns are encouraged to attend the meeting and to assist the staff in defining and clarifying the issues to be addressed in an EA or EIS.

Linda Mitry,
Acting Secretary.

[FR Doc. E4-1219 Filed 5-26-04; 8:45 am]

BILLING CODE 6717-01-P